Title 3—

The President

Memorandum of September 30, 2016

Delegation of Authority Pursuant to Sections 5, 6(a) and 6(c), and 8(a) of the Global Food Security Act of 2016

Memorandum for the Secretary of State [and] the Administrator of the United States Agency for International Development

By the authority vested in me as President by the Constitution and the laws of the United States of America, including section 301 of title 3, United States Code, I hereby order as follows:

I hereby delegate to the Administrator of the United States Agency for International Development the functions and authorities vested in the President by sections 5, 6(c), and 8(a) of the Global Food Security Act of 2016 (the “Act”).

I hereby delegate to the Secretary of State and the Administrator of the United States Agency for International Development the functions and authorities vested in the President by section 6(a) of the Act.

These functions shall be exercised consistent with the Secretary of State's responsibility for the continuous supervision and general direction of assistance programs under section 2382 of title 22, United States Code, and lead role in coordinating U.S. assistance under section 6593 of title 22, United States Code.

Any reference in this memorandum to the Act shall be deemed to be a reference to any future act that is the same or substantially the same as such provisions.

The Secretary of State is authorized and directed to publish this memorandum in the Federal Register.

THE WHITE HOUSE,

Washington, September 30, 2016

[FR Doc. 2016-26652

Filed 11-1-16; 11:15 am]

Billing code 4710-10-P